FEDERAL COMMUNICATIONS COMMISSION

Notice of Public Information Collection Being Reviewed by the Federal Communications Commission for Extension Under Delegated Authority, Comments Requested

January 29, 2010.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

DATES: Persons wishing to comment on this information collection should submit comments by April 5, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via e-mail at Nicholas_A._Fraser@omb.eop.gov and to Cathy Williams, Federal Communications Commission (FCC), via e-mail at PRA@fcc.gov and to Cathy.Williams@fcc.gov.

FOR FURTHER INFORMATION CONTACT: For additional information about the information collection send an e-mail to PRA@fcc.gov or contact Cathy Williams on (202) 418-2918.

SUPPLEMENTARY INFORMATION: OMB Control Number: 3060-1053.

Title: 47 CFR 64.604 - Telecommunications Relay Services and Speech-to-Speech Services for Individuals with Hearing and Speech Disabilities; IP Captioned Telephone Service, Declaratory Ruling, CG Docket No. 03-123.

Form Number: N/A.

Type of Review: Extension of a currently approved collection.

Respondents: Business or other for-profit entities.

Number of Respondents and Responses: 7 respondents and 14 responses.

Estimated Time per Response: 8 hours.

Frequency of Response: Annual reporting requirement.

Obligation to Respond: Required to obtain or retain benefits. The statutory authority for the information collection requirement is found at Sec. 225 [47 U.S.C. 225] Telecommunications Services for Hearing-Impaired Individuals; The Americans with Disabilities Act of 1990, (ADA), Public Law 101-336, 104 Stat. 327, 366-69, was enacted on July 26, 1990.

Total Annual Burden: 112 hours.

Total Annual Cost: None.

Nature and Extent of Confidentiality: An assurance of confidentiality is not offered because this information collection does not require the collection of personal identifiable information (PII) from individuals.

Privacy Impact Assessment: No impact(s).

Needs and Uses: In August 2003, the Commission released Telecommunications Relay Services and Speech-to-Speech Services for Individuals with Hearing and Speech Disabilities, CC Docket No. 98-67, Declaratory Ruling, published at 68 FR 55898, September 28, 2003. In the Declaratory Ruling, the Commission clarified that one-line captioned telephone voice carry over (VCO) service (CTS) is a type of telecommunications relay service (TRS) eligible for compensation from the Interstate TRS Fund (Fund). The Commission also clarified that certain TRS mandatory minimum standards do not apply to one-line CTS, and waived portions of 47 CFR 64.604(a)(1) and (a)(3). Parts of the waivers were contingent on the filing of annual reports with the Commission detailing providers' compliance with the Declaratory Ruling, and any technological advances that might enable CTS providers to meet those waived standards. Among the standards not waived, however, was the requirement in 47 CFR 64.604(c)(1) that each provider maintain a log of consumer complaints that must be submitted to the Commission annually.

In July 2005, the Commission released Telecommunications Relay Services and Speech-to-Speech Services for Individuals with Hearing and Speech Disabilities, CC Docket No. 98-67 and CG Docket No. 03-123, Order, published at 70 FR 54294, September 14, 2005, clarifying that two-line CTS is a type of TRS eligible for compensation from the Fund. In so doing, the Commission found that two-line CTS “is simply a variation of” CTS that offers the same functionality while also offering the user additional features. Therefore, the same waivers and waiver reporting and complaint log obligations applicable to one-line CTS have also applied to two-line CTS.

In January 2007, the Commission released Telecommunications Relay Services and Speech-to-Speech Services for Individuals with Hearing and Speech Disabilities; Internet-based Captioned Telephone Service, CG Docket No. 03-123, Declaratory Ruling, published at 72 FR 6960, February 14, 2007, clarifying that Internet Protocol CTS (IP CTS) is a type of TRS eligible for compensation from the Fund when offered in compliance with the applicable TRS mandatory minimum standards. In so doing, the Commission waived or declared inapplicable some of these standards for IP CTS, consistent with waivers granted and other findings with respect to the provision of CTS and IP Relay, to the extent that IP CTS shares characteristics with both of those services. Like with those services, however, the Commission required IP CTS providers to file waiver reports for those waivers contingent on the filing of such reports, and the requirement to file complaint logs was not waived.

This notice covers the information collection burdens associated with the filing of these waiver reports and complaint logs.

Federal Communications Commission.
Marlene H. Dortch,
Secretary, Office of the Secretary, Office of Managing Director.

[FR Doc. 2010-2362 Filed 2-3-10; 8:45 am]

BILLING CODE 6712-01-S